NATIONAL AERONAUTICS AND SPACE ADMINISTRATION

[Notice (17-091)]

Notice of Intent To Grant Partially Exclusive Term License Take Out This Space

AGENCY: National Aeronautics and Space Administration.

ACTION: Notice of intent to grant partially exclusive term license.

SUMMARY: NASA hereby gives notice of its intent to grant a partially-exclusive term license in the United States to practice the invention described and claimed in U.S. Patent 6,760,487 entitled, “Estimated Spectrum Adaptive Postfilter And The Iterative Prepost Filtering Algorithms”, and in U.S. Patent 9,414,072 entitled “Improved Performance of the JPEG Estimated Spectrum Adaptive Postfilter (JPEG-ESAP) for Low Bit Rates” to Human Health Organization (“H2O”), having its principal place of business in Studio City, CA.

DATES: The prospective partially-exclusive term license may be granted unless NASA receives written objections, including evidence and argument no later than January 18, 2018, that establish that the grant of the license would not be consistent with the requirements regarding the licensing of federally owned inventions as set forth in the Bayh-Dole Act and implementing regulations. Competing applications completed and received by NASA no later than January 18, 2018 will also be treated as objections to the grant of the contemplated partially exclusive license. Objections submitted in response to this notice will not be made available to the public for inspection and, to the extent permitted by law, will not be released under the Freedom of Information Act.

ADDRESSES: Objections relating to the prospective license may be submitted to Patent Counsel, Bryan A. Geurts, Goddard Space Flight Center, 8800 Greenbelt Road, M/S 140.1, Greenbelt, MD 20771. Phone (301) 286-7351. Facsimile (301) 286-9502.

FOR FURTHER INFORMATION CONTACT: Enidia Santiago-Arce, Innovative Partnerships Program Office, Goddard Space Flight Center, 8800 Greenbelt Road, M/S 504, Greenbelt, MD 20771. Phone (301) 286-5810.

SUPPLEMENTARY INFORMATION: This notice of intent to grant a partially-exclusive term patent license is issued in accordance with 35 U.S.C. 209(e) and 37 CFR 404.7(a)(1)(i). The patent rights in these inventions have been assigned to the United States of America as represented by the Administrator of the National Aeronautics and Space Administration. The prospective partially exclusive license will comply with the requirements of 35 U.S.C. 209 and 37 CFR 404.7.

Information about other NASA inventions available for licensing can be found online at http://technology.nasa.gov.

Mark P. Dvorscak,
Agency Counsel for Intellectual Property.

[FR Doc. 2017-28388 Filed 1-2-18; 8:45 am]

BILLING CODE 7510-13-P